DEPARTMENT OF ENERGY

Federal Energy Regulatory Commission

[Docket No. RP03-76-001]

Southern Natural Gas Company; Notice of Refund Report

June 16, 2003.

Take notice that on June 10, 2003, Southern Natural Gas Company (Southern) tendered for filing a Refund Report reflecting its refund of certain amounts to its eligible firm shippers.

Southern states that the refund represents amounts collected as overrun charges for a firm shipper's use of receipt points in zones downstream of its contracted delivery zone(s), but within its Transportation Demand, plus interest calculated in accordance with section 154.501(d) of the Commissions's regulations. The report states that Southern credited $373,674.21 to its eligible shippers on June 10, 2003, per the Commission's Order dated May 6, 2003.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 23, 2003.

Magalie R. Salas,
Secretary.

[FR Doc. 03-15757 Filed 6-20-03; 8:45 am]

BILLING CODE 6717-01-P